DEPARTMENT OF THE INTERIOR

Bureau of Land Management

[LLNV912000 L16400000.PH0000.LXSS006F0000 261A; MO# 4500012129; 10-08807; TAS:14X1109]

Northeastern Great Basin Resource Advisory Council Meetings, Nevada

AGENCY: Bureau of Land Management, Interior.

ACTION: Notice of meetings.

SUMMARY: In accordance with the Federal Land Policy and Management Act (FLPMA) and the Federal Advisory Committee Act of 1972 (FACA), the U.S. Department of the Interior, Bureau of Land Management (BLM) Nevada Northeastern Great Basin Resource Advisory Council (RAC), will hold three meetings in Nevada in fiscal year 2010. All meetings are open to the public.

Dates and Times: March 4 at the BLM Elko District Office, 3900 E. Idaho St., Elko, Nevada; June 17 and 18 at the Eureka Opera House, 31 S. Main St., Eureka, Nevada; and September 30, at the BLM Ely District Office, 702 N. Industrial Way, Ely, Nevada. Approximate meeting times are 8 a.m. to 4 p.m. However, meetings could end earlier if discussions and presentations conclude before 4 p.m. All meetings will include a public comment period at approximately 10 a.m.

FOR FURTHER INFORMATION CONTACT: Schirete Zick, Public Affairs Officer, Battle Mountain District Office, 50 Bastian Road, Battle Mountain, NV 89820. Telephone: (775) 635-4067. E-mail: schirete_zick@blm.gov.

SUPPLEMENTARY INFORMATION: The 15-member Council advises the Secretary of the Interior, through the Bureau of Land Management (BLM), on a variety of planning and management issues associated with public land management in Nevada. Topics for discussion at each meeting will include, but are not limited to:

• March 4 (Elko)—Southern Nevada Public Lands Management Act nominations, cooperative monitoring, grazing permits, and Battle Mountain Resource Management Plan;

• June 17 and 18 (Eureka)—field tour to 3-Bars Project area;

• September 30 (Ely)—minerals, grazing, energy, and sustainable development Managers' reports of field office activities will be given at each meeting. The Council may raise other topics at any of the three planned meetings.

Final agendas will be posted on-line at the BLM Northeastern Great Basin Resource Advisory Council Web site at http://www.blm.gov/nv/st/en/res/resource_advisory.html and will be published in local and regional media sources at least 14 days before each meeting. Individuals who need special assistance, such as sign language interpretation or other reasonable accommodations, or who wish to receive a copy of each agenda, may contact Schirete Zick no later than 10 days prior to each meeting.

Dated: February 9, 2010.
Doran Sanchez,
Chief of Communications, Nevada.

[FR Doc. 2010-3052 Filed 2-17-10; 8:45 am]

BILLING CODE 4310-HC-P